DEPARTMENT OF ENERGY

Federal Energy Regulatory Commission

[Docket No. EG02-106-000, et al.]

Vandolah Power Company, L.L.C., et al.; Electric Rate and Corporate Regulation Filings

March 26, 2002.

Take notice that the following filings have been made with the Commission. Any comments should be submitted in accordance with Standard Paragraph E at the end of this notice.

1. Vandolah Power Company, L.L.C.

[Docket No. EG02-106-000]

On March 21, 2002, Vandolah Power Company, L.L.C. (Vandolah Power), a Delaware limited liability corporation with its principal place of business in Houston, Texas, filed with the Federal Energy Regulatory Commission an application for determination of exempt wholesale generator status pursuant to Part 365 of the Commission's regulations.

Vandolah Power owns a 630-MW power generation facility that is under construction in Hardee County, Florida. (the “Facility”). When completed, the Facility will be interconnected to the transmission system of Florida Power Corporation. The Facility is scheduled to begin commercial operation in June 2002.

Comment Date: April 16, 2002.

2. New England Power Pool

[Docket No. EL00-62-044, ER98-3853-013]

Take notice that on March 18, 2002, the New England Power Pool (NEPOOL) Participants Committee filed for acceptance materials (1) to permit NEPOOL to expand its membership to include Sprague Energy Corp. (Sprague); and (2) to terminate the memberships of Niagra Mohawk Energy Inc. (NIMO) and Amerada Hess Corporation (Hess). The Participants Committee requests an effective date of March 1, 2002 for commencement of participation in NEPOOL by Sprague and December 31, 2001 and February 1, 2002 for the terminations of NIMO and Hess, respectively.

The Participants Committee states that copies of these materials were sent to the New England state governors and regulatory commissions and the Participants in NEPOOL.

Comment Date: April 15, 2002.

3. PPL Large Scale Distributed Generation II, LLC and PPL Midwest Finance, LLC

[Docket No. EL02-72-000]

Take notice that on March 15, 2002, PPL Large Scale Distributed Generation II, LLC and PPL Midwest Finance, LLC filed with the Federal Energy Regulatory Commission (Commission), a Petition for Declaratory Order Disclaiming Jurisdiction.

Comment Date: April 15, 2002.

4. Access Energy Cooperative

[Docket No. EL02-73-000]

Take notice that on March 21, 2002, Access Energy Cooperative (AEC) filed a conditional request for waiver of the requirements of Order No. 888 and Order No. 889 pursuant to 18 CFR 35.28(d) of the Federal Energy Regulatory Commission's (Commission) Regulations. AEC also requests waiver of 18 CFR 35.28(d)(ii)'s 60-day notice requirement. AEC's filing is available for public inspection at its offices in Mt. Pleasant, Iowa.

Comment Date: April 15, 2002.

5. Virginia Electric and Power Company

[Docket No. ER01-3032-003]

Take notice that on March 18, 2002, Virginia Electric and Power Company, doing business as Dominion Virginia Power, tendered for filing with the Federal Energy Regulatory Commission (Commission) the revised description of the work to be performed (Revised Description) and cost support for the estimated total cost for the direct assignment interconnection facilities (Cost Support) set forth in the executed Generator Interconnection and Operating Agreement (Interconnection Agreement) between Dominion Virginia Power and Tenaska Virginia Partners, L.P. (Tenaska). This filing is being made to comply with the Commission's February 15, 2002 unpublished letter order in Docket No. ER01-3032-002.

Dominion Virginia Power respectfully requests that the Commission accept the Revised Description and Cost Support to allow the Interconnection Agreement to become effective on November 9, 2001, the same date the Commission made the Interconnection Agreement effective in its December 6, 2001 order in these proceedings. Copies of the filing were served upon Tenaska and the Virginia State Corporation Commission.

Comment Date: April 8, 2002.

6. El Paso Electric Company

[Docket No. ER02-1141-001]

Take notice that on March 20, 2002, El Paso Electric Company (El Paso) tendered for filing with the Federal Energy Regulatory Commission (Commission) a Service Agreement with Arizona Electric Power Cooperative, Inc. for Firm Transmission Service under El Paso's Open Access Transmission Tariff. The Service Agreement was originally submitted for filing on February 27, 2002 but contained an erroneous service agreement designation. This filing corrects the error.

El Paso requests that the proposed Service Agreement be permitted to become effective on January 24, 2002. El Paso states that this filing is in accordance with Part 35 of the Commission's regulations, 18 CFR part 35, and that a copy has been served on the Texas Public Utility Commission.

Comment Date: April 10, 2002.

7. El Paso Electric Company

[Docket No. ER02-1142-001]

Take notice that on March 20, 2002, El Paso Electric Company (El Paso) tendered for filing with the Federal Energy Regulatory Commission (Commission) a Service Agreement with Arizona Electric Power Cooperative, Inc. for Non-Firm Transmission Service under El Paso's Open Access Transmission Tariff. The Service Agreement was originally submitted for filing on February 27, 2002 but contained an erroneous service agreement designation. This filing corrects the error.

El Paso requests that the proposed Service Agreement be permitted to become effective on January 24, 2002. El Paso states that this filing is in accordance with Part 35 of the Commission's regulations, 18 CFR 35, and that a copy has been served on the Texas Public Utility Commission.

Comment Date: April 10, 2002.

8. Ocean State Power II

[Docket No. ER02-1178-001]

Take notice that on March 19, 2002, Ocean State Power II (Ocean State II) tendered for filing revisions to Attachments A and B to Ocean State II's annual rate of return on equity (ROE) to Rate Schedule FERC Nos. 5-8. Ocean State II states that these sheets are being filed to correct omissions from their February 28, 2002 filing in this proceeding.

Ocean State II requests an effective date of April 29, 2002, for these revisions. Copies of the filing have been served upon each person designated on the official service list compiled by the Secretary in this proceeding.

Comment Date: April 9, 2002.

9. Ocean State Power

[Docket No. ER02-1184-001]

Take notice that on March 19, 2002, Ocean State Power (Ocean State) tendered for filing revisions to Attachments A and B to Ocean State's annual rate of return on equity (ROE) to Rate Schedule FERC Nos. 1-4. Ocean State states that these sheets are being filed to correct omissions from their February 28, 2002 filing in this proceeding.

Ocean State requests an effective date of April 29, 2002, for these revisions. Copies of the filing have been served upon each person designated on the official service list compiled by the Secretary in this proceeding.

Comment Date: April 9, 2002.

10. American Electric Power Service Corporation

[Docket No. ER02-1215-001]

Take notice that on March 19, 2002 American Electric Power Service Corporation tendered for filing, on behalf of its affiliated companies including Central Power and Light Company and West Texas Utilities Company, (collectively, AEP), a revised Interim Qualified Scheduling Entity Service Agreement (Agreement).

AEP requests that the revised Agreement substitute an agreement that AEP previously filed in this docket. AEP requests that the revised Agreement be made effective on March 3, 2002. Copies of the transmittal letter have been served on the party to the Agreement as well as on the Public Utility Commission of Texas.

Comment Date: April 9, 2002.

11. Allegheny Power Service Corporation, on behalf of Monongahela Power Company, The Potomac Edison Company, and West Penn Power Company (Allegheny Power)

[Docket No. ER02-1323-001]

Take notice that on March 18, 2002, Allegheny Energy Service Corporation on behalf of Monongahela Power Company, The Potomac Edison Company and West Penn Power Company (Allegheny Power), filed Second Revised Service Agreement No. 110 and Supplement No. 1 to Second Revised Service Agreement No. 110 under Allegheny Power's Open Access Transmission Service Tariff. Second Revised Service Agreement No. 110 and its supplement consist of an executed Network Integration Transmission Service Agreement and Network Operating Agreement with the Borough of Tarentum and replace First Revised Service Agreement No. 110 and its Supplement No. 1. Allegheny Power requests that the effective date for Second Revised Service Agreement No. 110 and its Supplement No. 1 remain March 16, 2002.

Copies of the filing have been provided to the Customer and the Pennsylvania Public Utility Commission.

Comment Date: April 8, 2002.

12. Mirant Oregon, L.L.C.

[Docket No. ER02-1331-001]

Take notice that on March 20, 2002, Mirant Oregon, L.L.C. (Mirant Oregon) tendered for filing an amendment to its application filed on March 18, 2002 to correct an error in the initial filing. Mirant Oregon states that correct location of the Coyote Springs 2 generating facility (Facility) is the Avista Corporation control area and not the Portland General Electric Company control area referred to in the initial filing. Accordingly, Mirant Oregon has included a new Supply Margin Assessment for the Avista Corporation control area in Mirant Oregon's application for market-based rates.

Comment Date: April 10, 2002.

13. American Transmission Systems, Inc.

[Docket No. ER02-1346-000]

Take notice that on March 20, 2002, American Transmission Systems, Inc. filed a Service Agreement to provide Non-Firm Point-to-Point Transmission Service for Dominion Energy Marketing, Inc., the Transmission Customer. Services are being provided under the American Transmission Systems, Inc. Open Access Transmission Tariff submitted for filing by the Federal Energy Regulatory Commission in Docket No. ER99-2647-000. The proposed effective date under the Service Agreement is March 18, 2002 for the above mentioned Service Agreement in this filing.

Comment Date: April 10, 2002.

14. Pacific Gas and Electric Company

[Docket No ER02-1351-000]

Take notice that on March 21, 2002, Pacific Gas and Electric Company (PG&E) tendered for filing Generator Special Facilities Agreements (GSFAs) and Generator Interconnection Agreements (GIAs) between PG&E and King City Energy Center, LLC (King City), Gilroy Energy Center, LLC (Gilroy), Duke Energy Morro Bay LLC (Duke Morro Bay), Wellhead Power Panoche, LLC (Wellhead Panoche) and Wellhead Power Gates, LLC (Wellhead Gates) (collectively, Parties). In addition, PG&E is filing Supplemental Letter Agreements with King City and Gilroy. PG&E has requested certain waivers.

Copies of this filing have been served upon King City, Gilroy, Duke Morro Bay, Wellhead Panoche, Wellhead Gates, the California Independent System Operator Corporation and the CPUC.

Comment Date: April 16, 2002.

15. Black Hills Corporation, n/k/a Black Hills Power, Inc.

[Docket No. ER02-1352-000]

Take notice that on March 21, 2002, Black Hills Corporation, d/b/a Black Hills Power, Inc., a wholly-owned subsidiary of Black Hills Corporation, Inc. (a South Dakota holding corporation), tendered for filing an executed Service Agreement for Non-Firm Point-to-Point Transmission Service with Black Hills Generation, Inc.

Copies of the filing were provided to the regulatory commission of the states of Montana, South Dakota and Wyoming. Black Hills Power, Inc. has requested that further notice requirement be waived and the executed Service Agreement be allowed to become effective February 1, 2002.

Comment Date: April 16, 2002.

16. Appalachian Power Company

[Docket No. ER02-1353-000]

Take notice that Appalachian Power Company (APCo), on March 21, 2002, tendered for filing with the Federal Energy Regulatory Commission (Commission) a Notice of Cancellation for Rate Schedule FERC No. 99, which became effective on May 21, 1984.

APCo states that the current version of Rate Schedule 99 on file with the Commission contains a one (1) year notice of cancellation provision and that APCo gave Central Virginia Electric Cooperative, Inc. (CVEC), the only customer served by Apco under Rate Schedule FERC No. 99, timely written notification of its election to terminate Rate Schedule FERC No. 99 and service to CVEC under APCo's cost-based rates.

Since no service is to be provided by APCo under Rate Schedule No. 99 after May 20, 2002, APCo requests, for good cause shown, in accordance with Section 35.15 of the Commission's Regulations, that its Notice of Cancellation be made effective as of May 21, 2002. APCo further states that copies of its filing have been served upon the Virginia State Corporation Commission and CVEC.

Comment Date: April 16, 2002.

17. Twelvepole Creek, LLC

[Docket No. ER02-1354-000]

Take notice that on March 21, 2002, Twelvepole Creek, LLC (Twelvepole Creek) tendered for filing six copies of the Umbrella Service Agreement for Short-Term Sales Under Market-Based Rate Tariff between Twelvepole Creek, LLC and Orion Power MidWest, L.P. (Umbrella Service Agreement), as Original Service Agreement No. 1 under Twelvepole Creek's market-based rate tariff.

Comment Date: April 16, 2002.

18. Orion Power MidWest, L.P.

[Docket No. ER02-1355-000]

Take notice that on March 21, 2002, Orion Power MidWest, L.P. (Orion Power MidWest) tendered for filing one confidential, unredacted copy and fourteen redacted copies of the Master Power Purchase and Sale Agreement between Orion Power MidWest and Valu Source Energy Services, LLC (Agreement) as Original Service Agreement No. 2 under Orion Power MidWest's market-based rate tariff. Orion Power MidWest requested confidential treatment for the unredacted copy of the Agreement.

Comment Date: April 16, 2002.

19. Orion Power MidWest, L.P.

[Docket No. ER02-1356-000]

Take notice that on March 21, 2002, Orion Power MidWest, L.P. (Orion Power MidWest) tendered for filing one confidential, unredacted copy and fourteen redacted copies of the Master Power Purchase and Sale Agreement between Orion Power MidWest and Reliant Energy Services, Inc., (Agreement) as Original Service Agreement No. 1 under Orion Power MidWest's market-based rate tariff. Orion Power MidWest requested confidential treatment for the unredacted copy of the Agreement.

Comment Date: April 16, 2002.

20. California Independent System Operator Corporation

[Docket No. ER02-1357-000]

Take notice that on March 21, 2002, the California Independent System Operator Corporation (ISO) filed Third Revised Service Agreement No. 32 Under ISO Rate Schedule No. 1, which is a Participating Generator Agreement between the ISO and Pacific Gas and Electric Company. The ISO has revised the PGA to update the list of generating units listed in Schedule 1 of the PGA.

The ISO requests an effective date for the filing of March 22, 2002. The ISO has served copies of this filing upon all entities that are on the official service list for Docket Nos. ER98-1002 and ER01-2433.

Comment Date: April 16, 2002.

21. West Valley Leasing Company, LLC

[Docket No. ER02-1358-000]

Take notice that on March 21, 2002, West Valley Leasing Company, LLC, an Oregon limited liability company (WVLC), f/k/a/ PPM Five LLC (PPM Five) is canceling its FERC Rate Schedule No. 1 and related State of Policy and Code of Conduct.

WVLC request that the cancellation of the Rate Schedule be made effective March 20, 2002.

Comment Date: April 16, 2002.

22. Kansas Electric Power Cooperative, Inc.

[Docket No. NJ02-4-000]

Take notice that on March 21, 2002, Kansas Electric Power Cooperative, Inc., a non-jurisdictional generation and transmission cooperative, tendered for filing a request for waiver of Order No. 889.

Comment Date: April 15, 2002.

23. California Independent System Operator Corporation

[Docket No. EL02-18-001]

Take notice that on March 18, 2002, the California Independent System Operator Corporation (ISO) tendered for filing with the Federal Energy Regulatory Commission (Commission), a Compliance Report pursuant to the Commission's March 1, 2002 Order, 98 FERC ¶ 61,228.

Comment Date: April 17, 2002.

24. PacifiCorp

[Docket No. ER01-3071-002]

Take notice that PacifiCorp on March 25, 2002, tendered for filing in accordance with 18 CFR 35 of the Federal Energy Regulatory Commission (Commission) Rules and Regulations, a First Revised Service Agreement No. 50 under PacifiCorp's FERC Electric Tariff Vol. 12 between PacifiCorp and Flathead Electric Cooperative, Inc.

Copies of this filing were supplied to the Washington Utilities and Transportation Commission and the Public Utility Commission of Oregon.

Comment Date: April 15, 2002.

25. Michigan Electric Transmission Company and Consumers Energy Company

[Docket No. ER02-800-001]

Take Notice that on March 22, 2002, Consumers Energy Company (Consumers) and Michigan Electric Transmission Company (Michigan Transco) tendered for filing with the Federal Energy Regulatory Commission (Commission) a Second Supplemental Notice of Succession and a Revised Rate Schedule for Consumers related to the transfer of transmission assets from Consumers to Michigan Transco. The Second Supplemental Notice of Succession and Revised Rate Schedule were to become effective April 1, 2001.

By acceptance letter dated February 20, 2002, that submittal was accepted by the Commission effective April 1, 2001, conditioned upon compliance with Order No. 614 within 30 days of the issuance of that acceptance letter. A Compliance Filing in the referenced docket, purporting to satisfy the aforementioned condition, was made by Consumers and Michigan Transco on March 22, 2002.

A full copy of the filing was served upon the Michigan Public Service Commission, and Customers: Michigan South Central Power Authority, Michigan Public Power Authority and Wolverine Power Supply Cooperative, were sent the Notice of Succession and related materials.

Comment Date: April 12, 2002.

26. Somerset Windpower LLC

[Docket No. ER02-954-001]

Take notice that on March 22, 2002, Somerset Windpower LLC (“Somerset”) submitted to the Federal Energy Regulatory Commission (Commission) an amendment to the Request for Authorization to Amend Market-Based Rate Tariff that it previously filed with the Commission on February 1, 2002. Somerset is engaged exclusively in the business of owning and operating a 9 MW wind-powered electric generating facility located in Somerset Township, Somerset County, Pennsylvania and selling its capacity and energy at wholesale to Exelon Power Generation LLC.

Comment Date: April 12, 2002.

27. Mill Run Windpower LLC

[Docket No. ER02-955-001]

Take notice that on March 22, 2002, Mill Run Windpower LLC (Mill Run) submitted to the Federal Energy Regulatory Commission (Commission) an amendment to the Request for Authorization to Amend Market-Based Rate Tariff that it previously filed with the Commission on February 1, 2002. Mill Run is engaged exclusively in the business of owning and operating a 15 MW wind-powered electric generating facility located in Springfield and Stuart townships, Fayette County, Pennsylvania and selling its capacity and energy at wholesale to Exelon Power Generation LLC.

Comment Date: April 12, 2002.

28. Florida Keys Electric Cooperative Association, Inc.

[Docket No. ER02-1359-000]

Take notice that on March 21, 2002, Florida Keys Electric Cooperative Association, Inc. tendered for filing a revised rate for non-firm transmission service provided to the City Electric System, Key West, Florida in accordance with the terms and conditions of the Long-Term Joint Investment Transmission Agreement between the Parties.

A copy of this filing has been served on CES and the Florida Public Service Commissioner.

Comment Date: April 11, 2002.

29. Western Resources, Inc.

[Docket No. ER02-1361-000]

Take notice that on March 22, 2002, Western Resources, Inc. (WR) (d.b.a. Westar Energy) tendered for filing a Service Agreement between WR and Morgan Stanley Capital Group (MSCG). WR states that the purpose of this agreement is to permit MSCG to take service under WR's Market Based Power Sales Tariff on file with the Commission. This agreement is proposed to be effective March 1, 2002.

Copies of the filing were served upon MSCG and the Kansas Corporation Commission.

Comment Date: April 12, 2002.

30. Western Resources, Inc.

[Docket No. ER02-1362-000]

Take notice that on March 22, 2002, Western Resources, Inc. (WR) (d.b.a. Westar Energy) tendered for filing a Revised Sheet No. 2 to the Service Agreement between WR and the City of Larned. WR states that the purpose of revision is to correct an inadvertent error in the originally filed document. This agreement is proposed to be effective June 15, 2001.

Copies of the filing were served upon the City of Larned and the Kansas Corporation Commission.

Comment Date: April 12, 2002.

31. Virginia Electric and Power Company

[Docket No. ER02-1363-000]

Take notice that on March 22, 2002, Virginia Electric and Power Company, doing business as Dominion Virginia Power, tendered for filing with the Federal Energy Regulatory Commission (Commission) a Notice of Cancellation and a revised cover sheet to cancel an unexecuted Generator Interconnection and Operating Agreement (Interconnection Agreement) between Dominion Virginia Power and GenPower Earleys, L.L.C. (GenPower).

Dominion Virginia Power respectfully requests that the Commission allow the Notice of Cancellation and the revised cover sheet to become effective March 25, 2002. Copies of the filing were served upon GenPower and the Virginia State Corporation Commission.

Comment Date: April 12, 2002.

32. Potlatch Corporation

[Docket No. ER02-1364-000]

Take notice that on March 22, 2002, Potlatch Corporation filed a Notice of Withdrawal of its Power Purchase Agreement with Minnesota Power in the above-referenced docket.

A copy of the filing was served upon Minnesota Power, the sole customer of Potlatch Corporation and on the Minnesota Public Utilities Commission.

Comment Date: April 12, 2002.

33. Cokinos Power Trading Co.

[Docket No. ER02-1365-000]

Take notice that on March 22, 2002, Cokinos Power Trading Co. (Cokinos) petitioned the Commission for acceptance of Cokinos Rate Schedule FERC No. 1; the granting of certain blanket approvals, including the authority to sell electricity at market-based rates; and the waiver of certain Commission regulations.

Cokinos intends to engage in wholesale electric power and energy purchases and sales as a marketer. Cokinos is not in the business of generating or transmitting electric power. Cokinos is a wholly-owned subsidiary of Cokinos Energy Corporation, which, through its affiliates, is primarily engaged in the marketing of crude oil and natural gas.

Comment Date: April 12, 2002.

34. Hess Energy Power & Gas Company, LLC

[Docket No. ER02-1366-000]

Take notice that on March 22, 2002, Hess Energy Power & Gas Company, LLC (Seller) petitioned the Federal Energy Regulatory Commission (Commission) for an order: (1) Accepting Seller's proposed FERC rate schedule for market-based rates; (2) granting waiver of certain requirements under Subparts B and C of Part 35 of the regulations; (3) granting the blanket approvals normally accorded sellers permitted to sell at market-based rates; and (4) granting waiver of the 60-day notice period.

Comment Date: April 12, 2002.

35. Calpine Oneta Power, L.P.

[Docket No. ER02-1367-000]

Take notice that on March 22, 2002, Calpine Oneta Power, L.P. (the Applicant) tendered for filing, under section 205 of the Federal Power Act, a request for authorization to make wholesale sales of electric energy, capacity and ancillary services at market-based rates, to reassign transmission capacity, and to resell firm transmission rights. Applicant proposes to own and operate a nominal 1000 megawatt electric generation facility located in Wagoner County, Oklahoma. Applicant also submitted for filing a power marketing agreement for which it requests privileged and confidential treatment.

Comment Date: April 12, 2002.

36. Orion Power MidWest, L.P.

[Docket No. ER02-1368-000]

Take notice that on March 22, 2002, Orion Power MidWest, L.P. (Orion Power MidWest) tendered for filing one confidential, unredacted copy and fourteen redacted copies of the Master Power Purchase and Sale Agreement between Orion Power MidWest and Dominion Retail, Inc. (Agreement) as Original Service Agreement No. 3 under Orion Power MidWest's market-based rate tariff.

Comment Date: April 12, 2002.

37. Orion Power MidWest, L.P.

[Docket No. ER02-1369-000]

Take notice that on March 22, 2002, Orion Power MidWest, L.P. (Orion Power MidWest) tendered for filing one confidential, unredacted copy and fourteen redacted copies of the Master Power Purchase and Sale Agreement between Orion Power MidWest and Allegheny Energy Supply Company, LLC (Agreement) as Original Service Agreement No. 4 under Orion Power MidWest's market-based rate tariff.

Comment Date: April 12, 2002.

38. Commonwealth Edison Company

[Docket No. ER02-1370-000]

Take notice that on March 22, 2002, Commonwealth Edison Company (ComEd) submitted for filing a Service Agreement for Firm Point to Point Transmission Service and a corresponding Network Upgrade Agreement with MidAmerican Energy Company (MidAmerican) under ComEd's FERC Electric Tariff, Second Revised Volume No. 5.

ComEd seeks an effective date of March 14, 2002 and, accordingly, seeks waiver of the Commission's notice requirements.

ComEd states that a copy of this filing has been served on MidAmerican and the Illinois Commerce Commission.

Comment Date: April 12, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-7765 Filed 3-29-02; 8:45 am]

BILLING CODE 6717-01-P